INTERNATIONAL TRADE COMMISSION

[Investigation No. 337-TA-1208]

Certain Electronic Devices, Including Computers, Tablet Computers, and Components and Modules Thereof; Commission Determination Not To Review an Initial Determination Granting an Unopposed Motion To Terminate the Investigation in Its Entirety Based Upon Settlement; Termination of Investigation

AGENCY: U.S. International Trade Commission.

ACTION: Notice.

SUMMARY: Notice is hereby given that the U.S. International Trade Commission (“Commission”) has determined not to review an initial determination (“ID”) (Order No. 33) of the presiding administrative law judge (“ALJ”), granting an unopposed motion to terminate the investigation in its entirety based upon settlement.

FOR FURTHER INFORMATION CONTACT: Panyin A. Hughes, Office of the General Counsel, U.S. International Trade Commission, 500 E Street SW, Washington, DC 20436, telephone (202) 205-3042. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal, telephone (202) 205-1810.

SUPPLEMENTARY INFORMATION: On August 10, 2020, the Commission instituted this investigation based on a complaint filed by Nokia Technologies Oy and Nokia Corporation both of Espoo, Finland (collectively, “Nokia”). 85 FR 48263-64 (Aug. 10, 2020). The complaint alleged violations of section 337 based on the importation into the United States, the sale for importation, or the sale within the United States after importation of certain electronic devices, including computers, tablet computers, and components and modules thereof by reason of infringement of claims 1, 2, 5-7, 9-13, 15, 16, 18, 21-23, 25-29, 31, 32, 35-37, 39-47, 49, 52-54, and 56-62 of U.S. Patent No. 8,144,764 (“the '764 patent”); claims 1-4, 6, 7, 9-13, 15-18, 20-30, 32-41, 43-49, 51-60, and 62-65 of U.S. Patent No. 7,532,808 (“the '808 patent”); claims 1-7, 9, 15, 16, 18, 20-25, 27-30, and 50 of U.S. Patent No. 6,950,469 (“the '469 patent”); claims 1-15 and 20-23 of U.S. Patent No. 7,724,818 (“the '818 patent”); and claims 1-16 of U.S. Patent No. 8,583,706 (“the '706 patent”). Id. The Commission's notice of investigation named the following nine Lenovo entities as respondents: Lenovo (United States), Inc. of Morrisville, North Carolina; Lenovo Group Limited of Quarry Bay, Hong Kong; Lenovo (Beijing) Limited of Beijing, China; Lenovo (Shanghai) Electronics Technology Co. Ltd. of Shanghai, China; Lenovo PC HK Limited of Quarry Bay, Hong Kong; Lenovo Information Products Shenzhen Co. Ltd. of Shenzhen, China; Lenovo Mobile Communication of Wuhan, China; Lenovo Corporation of Wujiang, China; and Lenovo Centro Tecnologico S. de RL CV of Nuevo Leon, Mexico (collectively, “Lenovo”). Id. at 48264. The notice of investigation also named the Office of Unfair Import Investigations (“OUII”) as a party. Id.

On September 4, 2020, the ALJ granted a motion by Google to intervene in this investigation. Although Google sought intervention only as to the '706 patent, the ALJ granted intervention without limitation, and the Commission determined not to review the ID. Order No. 5 (Sept. 4, 2020), unreviewed by Comm'n Notice (Sept. 29, 2020).

On March 12, 2021, ALJ granted a motion by Nokia to terminate the investigation as to (1) claims 1, 4-6, 9-13, 22, and 23 of the '818 patent; (2) claims 1, 2, 5-7, 9-13, 15, 16, 18, 21-23, 25-31, 35, 36, 39, 41-46, 48, 52, 53, 56, 58-60, and 62 of the '764 patent; (3) claims 1, 2-4, 6, 7, 9-13, 15, 17, 18, 20-30, 32-39, 41, 43-47, 49, 51-53, 56-60, and 63 of the '808 patent; (4) claims 2-4, 6, 7, 16, 20-25, 28, and 29 of the '469 patent, (5) all the asserted claims (1-16) of the '706 patent; and (6) Intervenor Google. The Commission determined not to review. Order No. 26 (Mar. 12, 2020), unreviewed by Comm'n Notice (Mar. 30, 2020).

On April 22, 2021, Nokia filed a motion to terminate the investigation in its entirety based upon settlement. On May 3, 2021, OUII filed a response in support of the motion, and the ALJ found that the Lenovo respondents do not oppose the motion. ID at 1.

On May 4, 2021, the Chief ALJ issued the subject ID (Order No. 33) granting the motion. The subject ID found that the joint motion complies with Commission Rule 210.21(a)(2), which provides that “[a]ny party may move at any time to terminate an investigation in whole or in part as to any or all respondents on the basis of a settlement, a licensing or other agreement . . . .” 19 CFR 210.21(a)(2). ID at 2. The ID further found that in compliance with 19 CFR 210.21(b), “Nokia represents that there are no other agreements, written or oral, express or implied between the parties concerning the subject matter of the investigation.” In addition, the parties provided confidential and public versions of the settlement agreement. The ID also found that “termination of this investigation does not impose any undue burdens on the public health and welfare, competitive conditions in the United States economy, production of like or directly competitive articles in the United States, or United States consumers pursuant to Commission Rule 210.50(b)(2).” Id. at 3 (citing 19 CFR 210.50(b)(2)). No one petitioned for review of the ID.

The Commission has determined not to review the subject ID. The investigation is hereby terminated in its entirety.

The Commission vote for this determination took place on May 18, 2021.

The authority for the Commission's determination is contained in section 337 of the Tariff Act of 1930, as amended (19 U.S.C. 1337), and in Part 210 of the Commission's Rules of Practice and Procedure (19 CFR part 210).

By order of the Commission.
Issued: May 18, 2021.
Lisa Barton,
Secretary to the Commission.

[FR Doc. 2021-10856 Filed 5-21-21; 8:45 am]

BILLING CODE 7020-02-P